DEPARTMENT OF DEFENSE

Office of the Secretary

[Docket ID: DOD-2010-OS-0157]

Privacy Act of 1974; System of Records

AGENCY: Office of the Secretary of Defense, DoD.

ACTION: Notice to alter a system of records.

SUMMARY: The Office of the Secretary of Defense proposes to alter a system of records in its inventory of record systems subject to the Privacy Act of 1974 (5 U.S.C. 552a), as amended.

DATES: This proposed action would be effective without further notice on January 7, 2011 unless comments are received which result in a contrary determination.

ADDRESSES: You may submit comments, identified by docket number and/or Regulatory Information Number (RIN) and title, by any of the following methods:

* Federal Rulemaking Portal: http://www.regulations.gov. Follow the instructions for submitting comments.

* Mail: Federal Docket Management System Office, Room 3C843, 1160 Defense Pentagon, Washington, DC 20301-1160.

Instructions: All submissions received must include the agency name and docket number or Regulatory Information Number (RIN) for this Federal Register document. The general policy for comments and other submissions from members of the public is to make these submissions available for public viewing on the Internet at http://www.regulations.gov as they are received without change, including any personal identifiers or contact information.

FOR FURTHER INFORMATION CONTACT: Chief, OSD/JS Privacy Office, Freedom of Information Directorate, Washington Headquarters Services, 1155 Defense Pentagon, Washington DC 20301-1155, Ms. Cindy Allard at (703) 588-6830.

SUPPLEMENTARY INFORMATION: The Office of the Secretary of Defense notices for systems of records subject to the Privacy Act of 1974 (5 U.S.C. 552a), as amended, have been published in the Federal Register and are available from the FOR FURTHER INFORMATION CONTACT address above.

The proposed system report, as required by 5 U.S.C. 552a(r) of the Privacy Act of 1974, as amended, was submitted on November 24, 2010, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: November 24, 2010.
Morgan F. Park,
Alternate OSD Federal Register Liaison Officer, Department of Defense.

DWHS E04

SYSTEM NAME:

Privacy Act Case Files (November 12, 2008 73 FR 6687.

* * * * *

CHANGES:

SYSTEM LOCATION:

Delete entry and replace with “Washington Headquarters Services records: Freedom of Information Division, Executive Services Directorate, Washington Headquarters Services, 1155 Defense Pentagon, Washington, DC 20301-1155.

DoD Educational Activity Records: Department of Defense Education Activity, Privacy Act Office, Executive Services Offices, Office of the Chief of Staff, 4040 North Fairfax Drive, Arlington, VA 22203-1634.

Assistant Secretary of Defense (Health Affairs)/TRICARE Management Activity and Uniformed Services University of Health Sciences (USUHS): TRICARE Management Activity, ATTN: Freedom of Information Act Requester Service Center, 16401 Centretech Parkway, Aurora, CO 80011-9066.”

CATEGORIES OF INDIVIDUALS COVERED BY THE SYSTEM:

Delete entry and replace with “Individuals who have requested documents and/or appeals under the provisions of the Privacy Act (PA) from the Offices of the Secretary of Defense, DoD Education Activity and the Assistant Secretary of Defense (Health Affairs)/TRICARE Management Activity; and attorneys representing individuals submitting such requests.”

CATEGORIES OF RECORDS IN THE SYSTEM:

Delete entry and replace with “Records created or compiled in response to Privacy Act requests and administrative appeals, individual's name, request number, original and copies of requests and administrative appeals; responses to such requests and administrative appeals; all related memoranda, correspondence, notes, and other related or supporting documentation.”

AUTHORITY FOR MAINTENANCE OF THE SYSTEM:

Delete entry and replace with “5 U.S.C. 552a, The Privacy Act of 1974, as amended; 10 U.S.C. 113, Secretary of Defense, DoD Directive 5110.4, Washington Headquarters Services (WHS); DoD 5400.11-R, Department of Defense Privacy Program; Administrative Instruction 81, Privacy Program; 10 U.S.C. 2164, Department of Defense Domestic Dependent Elementary and Secondary Schools; 20 U.S.C. 921-932, Overseas Defense Dependent's Education; DoD Directive 1342.20 Department of Defense Education Activity (DoDEA), DoD 5136.01, Assistant Secretary of Defense for Health Affairs (ASD(HA)); DoD Directive 5136.12, TRICARE Management Activity (TMA).”

* * * * *

SAFEGUARDS:

Delete entry and replace with “Records are maintained in security containers with access only to officials whose access is based on requirements of assigned duties. Computer database access requires use of Common Access Card (CAC) login and role-based access by individuals who have a need-to-know.”

* * * * *

SYSTEM MANAGER(S) AND ADDRESS:

Delete entry and replace with “For Washington Headquarters Services records: Office of the Secretary of Defense/Joint Staff Privacy Office, Office of Freedom of Information, Executive Services Directorate, Washington Headquarters Services, 1155 Defense Pentagon, Washington, DC 20301-1155.

For DoD Education Activity records: Department of Defense Education Activity, Privacy Office, Executive Services Office, Office of the Chief of Staff, 4040 North Fairfax Drive, Arlington, VA 22203-1634.

For Assistant Secretary of Defense (Health Affairs)/TRICARE Management Activity records: TRICARE Management Activity, Department of Defense, ATTN: TMA Privacy Officer, 5111 Leesburg Pike, Suite 810, Falls Church, VA, 22041-3206.”

NOTIFICATION PROCEDURE:

Delete entry and replace with “Individuals seeking to determine whether information about themselves is contained in this system of records should address written inquiries to:

For Washington Headquarters Services records: Chief, OSD/JS Privacy Office, Office of Freedom of Information, Executive Services Directorate, Washington Headquarters Services, 1155 Defense Pentagon, Washington, DC 20301-1155.

Written requests should include the individual's name.

For DoD Education Activity records: Department of Defense Education Activity, Privacy Act Office, Executive Services Office, Office of the Chief of Staff, 4040 North Fairfax Drive, Arlington, VA 22203-1634.

Written requests must include this system of record notice name and number, be in writing, signed, and provide evidence of the requester's identity such as a copy of a photo ID or passport or similar document bearing the requester's signature.

For Assistant Secretary of Defense (Health Affairs)/TRICARE Management Activity records: TRICARE Management Activity, Department of Defense, ATTN: TMA Privacy Officer, 5111 Leesburg Pike, Suite 810, Falls Church, VA, 22041-3206.

Written requests should include the individual's name, mailing address and signature.”

RECORD ACCESS PROCEDURES:

Delete entry and replace with “Individuals seeking to access their record should address written inquiries to:

For Washington Headquarters Services records: OSD/JS Freedom of Information Requester Service Center, Office of Freedom of Information, Executive Services Directorate, Washington, Headquarters Services, 1155 Defense Pentagon, Washington, DC 20301-1155.

For DoD Education Activity records: Department of Defense Education Activity, Privacy Act Office, Executive Services Office, Office of the Chief of Staff, 4040 North Fairfax Drive, Arlington, VA 22203-1634.

For Assistant Secretary of Defense (Health Affairs)/TRICARE Management Activity records: TRICARE Management Activity, ATTN: Freedom of Information Act Requester Service Center, 16401 Centretech Parkway, Aurora, CO 80011-9066.

Requests for access must include this system of record notice name and number, be in writing, signed, and provide evidence of the requester's identity such as a copy of a photo ID or passport or similar document bearing the requester's signature.

Additionally for DoD Education Activity records: If a parent or legal guardian is requesting records pertaining to his or her minor child or ward, he/she must also provide evidence of that relationship. The parent may provide one of the following: A copy of the child's school enrollment form signed by the parent, a copy of a divorce decree or travel order that includes the child's name, an order of guardianship, or a declaration stating that he/she is the parent or legal guardian of the minor or incapacitated child.”

CONTESTING RECORD PROCEDURES:

Delete entry and replace with “The Office of the Secretary of Defense rules for accessing records, for contesting contents and appealing initial agency determinations are published in Office of the Secretary of Defense Administrative Instruction 81; 32 CFR part 311; or may be obtained from the system manager.”

* * * * *

DWHS E04

SYSTEM NAME:

Privacy Act Case Files.

SYSTEM LOCATION:

Washington Headquarters Services records: Freedom of Information Division, Executive Services Directorate, Washington Headquarters Services, 1155 Defense Pentagon, Washington, DC 20301-1155.

DoD Educational Activity records: Department of Defense Education Activity, Privacy Act Office, Executive Services Offices, Office of the Chief of Staff, 4040 North Fairfax Drive, Arlington, VA 22203-1634.

Assistant Secretary of Defense (Health Affairs)/TRICARE Management Activity and Uniformed Services University of Health Sciences (USUHS): TRICARE Management Activity, ATTN: Freedom of Information Act Requester Service Center, 16401 Centretech Parkway, Aurora, CO 80011-9066.

CATEGORIES OF INDIVIDUALS COVERED BY THE SYSTEM:

Individuals who have requested documents and/or appeals under the provisions of the Privacy Act (PA) from the Offices of the Secretary of Defense, DoD Education Activity and the Assistant Secretary of Defense (Health Affairs)/TRICARE Management Activity; and attorneys representing individuals submitting such requests.

CATEGORIES OF RECORDS IN THE SYSTEM:

Records created or compiled in response to Privacy Act requests and administrative appeals, individual's name, request number, original and copies of requests and administrative appeals; responses to such requests and administrative appeals; all related memoranda, correspondence, notes, and other related or supporting documentation.

AUTHORITY FOR MAINTENANCE OF THE SYSTEM:

5 U.S.C. 552a, The Privacy Act of 1974, as amended; 10 U.S.C. 113, Secretary of Defense, DoD Directive 5110.4, Washington Headquarters Services (WHS); DoD 5400.11-R, Department of Defense Privacy Program; Administrative Instruction 81, Privacy Program; 10 U.S.C. 2164, Department of Defense Domestic Dependent Elementary and Secondary Schools; 20 U.S.C. 921-932, Overseas Defense Dependent's Education; DoD Directive 1342.20 Department of Defense Education Activity (DoDEA), DoD 5136.01, Assistant Secretary of Defense for Health Affairs (ASD(HA)); DoD Directive 5136.12, TRICARE Management Activity (TMA).

PURPOSE(S):

Information is being collected and maintained for the purpose of processing Privacy Act requests and administrative appeals; for participating in litigation regarding agency action on such requests and appeals; and for assisting the Department of Defense in carrying out any other responsibilities under the Privacy Act of 1974.

ROUTINE USES OF RECORDS MAINTAINED IN THE SYSTEM, INCLUDING CATEGORIES OF USERS AND THE PURPOSES OF SUCH USES:

In addition to those disclosures generally permitted under 5 U.S.C. 552a(b) of the Privacy Act of 1974, these records contained therein may specifically be disclosed outside the DoD as a routine use pursuant to 5 U.S.C. 552a(b)(3) as follows:

The DoD ‘Blanket Routine Uses’ set forth at the beginning of the Office of the Secretary of Defense's compilation of systems of records notices apply to this system.

POLICIES AND PRACTICES FOR STORING, RETRIEVING, ACCESSING, RETAINING, AND DISPOSING OF RECORDS IN THE SYSTEM:

STORAGE:

Paper records in file folders and electronic storage media.

RETRIEVABILITY:

By name and/or request number.

SAFEGUARDS:

Records are maintained in security containers with access only to officials whose access is based on requirements of assigned duties. Computer database access requires use of Common Access Card (CAC) login and role-based access by individuals who have a need-to-know.

RETENTION AND DISPOSAL:

Responses granting access to all the requested records, destroy 2 years after the date of reply. Responding to requests for nonexistent records; to requesters who provide inadequate descriptions; and to those who fail to pay agency reproduction fees; destroy requests not appealed 2 years after date of reply; destroy appealed requests in accordance with the approved disposition instructions for related subject individual's records or 3 years after final adjudication by the courts, whichever is later. Responses denying access to all or part of the records requested, destroy requests not appealed 5 years after date of reply.

SYSTEM MANAGER(S) AND ADDRESS:

For Washington Headquarters Services records: Office of the Secretary of Defense/Joint Staff Privacy Office, Office of Freedom of Information, Executive Services Directorate, Washington Headquarters Services, 1155 Defense Pentagon, Washington, DC 20301-1155.

For DoD Education Activity records: Department of Defense Education Activity, Privacy Office, Executive Services Office, Office of the Chief of Staff, 4040 North Fairfax Drive, Arlington, VA 22203-1634.

For Assistant Secretary of Defense (Health Affairs)/TRICARE Management Activity records: TRICARE Management Activity, Department of Defense, ATTN: TMA Privacy Officer, 5111 Leesburg Pike, Suite 810, Falls Church, VA, 22041-3206.

NOTIFICATION PROCEDURE:

Individuals seeking to determine whether information about themselves is contained in this system of records should address written inquiries to:

For Washington Headquarters Services records: Chief, OSD/JS Privacy Office, Office of Freedom of Information, Executive Services Directorate, Washington Headquarters Services, 1155 Defense Pentagon, Washington, DC 20301-1155.

Written requests should include the individual's name.

For DoD Education Activity records: Department of Defense Education Activity, Privacy Act Office, Executive Services Office, Office of the Chief of Staff, 4040 North Fairfax Drive, Arlington, VA 22203-1634.

Written requests must include this system of record notice name and number, be in writing, signed, and provide evidence of the requester's identity such as a copy of a photo ID or passport or similar document bearing the requester's signature.

For Assistant Secretary of Defense (Health Affairs)/TRICARE Management Activity records: TRICARE Management Activity, Department of Defense, ATTN: TMA Privacy Officer, 5111 Leesburg Pike, Suite 810, Falls Church, VA, 22041-3206.

Written requests should include the individual's name, mailing address and signature.

RECORD ACCESS PROCEDURES:

Individuals seeking to access their record should address written inquiries to:

For Washington Headquarters Services records: OSD/JS Freedom of Information Requester Service Center, Office of Freedom of Information, Executive Services Directorate, Washington, Headquarters Services, 1155 Defense Pentagon, Washington, DC 20301-1155.

For DoD Education Activity records: Department of Defense Education Activity, Privacy Act Office, Executive Services Office, Office of the Chief of Staff, 4040 North Fairfax Drive, Arlington, VA 22203-1634.

For Assistant Secretary of Defense (Health Affairs)/TRICARE Management Activity records: TRICARE Management Activity, ATTN: Freedom of Information Act Requester Service Center, 16401 Centretech Parkway, Aurora, CO 80011-9066.

Requests for access must include this system of record notice name and number, be in writing, signed, and provide evidence of the requester's identity such as a copy of a photo ID or passport or similar document bearing the requester's signature.

Additionally for DoD Education Activity records: If a parent or legal guardian is requesting records pertaining to his or her minor child or ward, he/she must also provide evidence of that relationship. The parent may provide one of the following: A copy of the child's school enrollment form signed by the parent, a copy of a divorce decree or travel order that includes the child's name, an order of guardianship, or a declaration stating that he/she is the parent or legal guardian of the minor or incapacitated child.

CONTESTING RECORD PROCEDURES:

The Office of the Secretary of Defense rules for accessing records, for contesting contents and appealing initial agency determinations are published in Office of the Secretary of Defense Administrative Instruction 81; 32 CFR part 311; or may be obtained from the system manager.

RECORD SOURCE CATEGORIES:

Those individuals who submit initial requests and administrative appeals pursuant to the Privacy Act; the agency records searched in the process of responding to such requests and appeals; Department of Defense personnel assigned to handle such requests and appeals; other agencies or entities that have referred to the Department of Defense requests concerning Department of Defense records, or that have consulted with the Department of Defense regarding the handling of particular requests; and submitters or subjects of records or information that have provided assistance to the Department of Defense in making access or amendment determinations.

EXEMPTIONS CLAIMED FOR THE SYSTEM:

During the course of a Privacy Act (PA) action, exempt materials from other systems of records may become part of the case records in this system of records. To the extent that copies of exempt records from those ‘other’ systems of records are entered into these PA case records, Washington Headquarters Services hereby claims the same exemptions for the records as they have in the original primary systems of records which they are a part.

An exemption rule for this system has been promulgated in accordance with requirements of 5 U.S.C. 553(b)(1), (2), and (3), (c), and (e) and published in 32 CFR part 311. For additional information contact the system manager.

[FR Doc. 2010-30715 Filed 12-7-10; 8:45 am]

BILLING CODE 5001-06-P